DEPARTMENT OF HOMELAND SECURITY

Federal Emergency Management Agency

[Docket ID FEMA-2008-0010]

Board of Visitors for the National Fire Academy

AGENCY: Federal Emergency Management Agency, DHS.

ACTION: Committee Management; Notice of Open Teleconference Federal Advisory Committee Meeting.

SUMMARY: The Board of Visitors for the National Fire Academy (Board) will meet by teleconference on July 12, 2011. The meeting will be open to the public.

DATES: The teleconference will take place Tuesday, July 12, 2011, from 1 p.m. to 3:30 p.m. EST. Please note that the meeting may close early if the Board has completed its business.

ADDRESSES: Members of the public who wish to obtain the call-in number, access code, and other information for the public teleconference may contact Ruth MacPhail as listed in the FOR FURTHER INFORMATION CONTACT section by close of business July 8, 2011, as the number of teleconference lines is limited and available on a first-come, first served basis. For information on services for individuals with disabilities or to request special assistance, contact Ruth MacPhail as soon as possible.

Members of the public may also participate by coming to the National Emergency Training Center, Building H, Room 300, Emmitsburg, Maryland. A picture identification is needed for access. Contact Ruth MacPhail as listed in the FOR FURTHER INFORMATION CONTACT for directions.

To facilitate public participation, we are inviting public comment on the issues to be considered by the Board as listed in the SUPPLEMENTARY INFORMATION section. Comments must be submitted in writing no later than July 8, 2011 and must be identified by docket ID FEMA-2008-0010 and may be submitted by one of the following methods:

• Federal eRulemaking Portal: http://www.regulations.gov. Follow the instructions for submitting comments.

• E-mail: FEMA-RULES@dhs.gov. Include the docket ID in the subject line of the message.

• Fax: 703-483-2999.

• Mail: Ruth MacPhail, 16825 South Seton Avenue, Emmitsburg, Maryland 21727.

Instructions: All submissions received must include the docket ID for this action. Comments received will be posted without alteration at http://www.regulations.gov, including any personal information provided.

Docket: For access to the docket to read background documents or comments received by the Board, go to http://www.regulations.gov.

A public comment period will be held during the meeting on July 12, 2011, from 2:30 p.m. to 3 p.m. EST, and speakers will be afforded 5 minutes to make comments. Please note that the public comment period may end before the time indicated, following the last call for comments. Contact the individual listed below to register as a speaker.

FOR FURTHER INFORMATION CONTACT: Ruth MacPhail, 16825 South Seton Avenue, Emmitsburg, Maryland 21727, telephone (301) 447-1117, fax (301) 447-1173, and e-mail ruth.macphail@dhs.gov.

SUPPLEMENTARY INFORMATION: Notice of this meeting is given under the Federal Advisory Committee Act, 5 U.S.C. App. (Pub. L. 92-463).

Purpose of the Board

The purpose of the Board is to review annually the programs of the National Fire Academy (Academy) and advise the Administrator of the Federal Emergency Management Agency (FEMA), through the United States Fire Administrator, regarding the operation of the Academy and any improvements therein that the Board deems appropriate. The Board makes interim advisories to the Administrator of FEMA, through the United States Fire Administrator, whenever there is an indicated urgency to do so in fulfilling its duties. In carrying out its responsibilities, the Board examines Academy programs to determine whether these programs further the basic missions which are approved by the Administrator of FEMA, examines the physical plant of the Academy to determine the adequacy of the Academy's facilities, and examines the funding levels for Academy programs. The Board submits an annual report through the United States Fire Administrator to the Administrator of FEMA, in writing. The report provides detailed comments and recommendations regarding the operation of the Academy.

Agenda

The Board will review Academy program activities, including procedural changes for off-campus deliveries, the FEMA Flood Surge Training Report, introduce the Residential Sprinkler Plan Review course curriculum to State Fire Training partners, unfunded course development requests, introduce a new mechanism for receiving current training deficiencies as a means to guide future course development, discuss State training grants and implications of budget funding received late in the fiscal year, and discuss options for classroom technical coordination with other campus offices. The Board will discuss the status of deferred maintenance and capital improvements on the National Emergency Training Center (NETC) campus, the FY 2011 Budget Request/FY 2012 Budget Planning, new Geo-Thermal challenges, and emergency preparedness of students on campus. The Board will review and consider reports from the Applicant Outreach Subcommittee, Emergency Medical Services Subcommittee, Fire and Emergency Services Higher Education (FESHE)/Professional Development Subcommittee, and Training Resources and Data Exchange (TRADE) Review Subcommittee. After discussion of these topics, there will be a public comment period. After deliberation, the Board will recommend action to the Superintendent of the National Fire Academy and the Administrator of FEMA.

Dated: June 17, 2011.
Kirby E. Kiefer,
Deputy Superintendent, National Fire Academy, United States Fire Administration, Federal Emergency Management Agency.

[FR Doc. 2011-15728 Filed 6-22-11; 8:45 am]

BILLING CODE 9111-45-P